DEPARTMENT OF ENERGY

Federal Energy Regulatory Commission

Combined Notice of Filings #1

Take notice that the Commission received the following electric rate filings:

Docket Numbers: ER13-1504-004; ER10-2861-003; ER10-2866-003; ER10-2862-005; ER11-4625-005; ER13-2169-004; ER11-3634-005; ER10-2867-004; ER16-711-005.

Applicants: SWG Arapahoe, LLC, Fountain Valley Power, L.L.C., SWG Colorado, LLC, Harbor Cogeneration Company, LLC, Colton Power L.P., Goal Line L.P., KES Kingsburg, L.P., Valencia Power, LLC, Pio Pico Energy Center, LLC.

Description: Notice of Non-Material Change in Status of SWG Arapahoe, LLC, et. al.

Filed Date: 4/19/17.

Accession Number: 20170419-5157.

Comments Due: 5 p.m. ET 5/10/17.

Docket Numbers: ER17-1378-001.

Applicants: Just Energy Solutions Inc.

Description: Tariff Amendment: Supplement to Notice of Succession to Market-Based Rate Tariff to be effective 4/4/2017.

Filed Date: 4/19/17.

Accession Number: 20170419-5091.

Comments Due: 5 p.m. ET 5/10/17.

Docket Numbers: ER17-1431-000.

Applicants: New England Power Company.

Description: § 205(d) Rate Filing: New England Power Cost Reimbursement Agreement with Wynn MA to be effective 3/24/2017.

Filed Date: 4/18/17.

Accession Number: 20170418-5314.

Comments Due: 5 p.m. ET 5/9/17.

Docket Numbers: ER17-1432-000.

Applicants: California Independent System Operator Corporation.

Description: § 205(d) Rate Filing: 2017-04-18 GIDNUCR Amendment to be effective 6/18/2017.

Filed Date: 4/18/17.

Accession Number: 20170418-5327.

Comments Due: 5 p.m. ET 5/9/17.

Docket Numbers: ER17-1433-000.

Applicants: PJM Interconnection, L.L.C.

Description: Compliance filing: Compliance Filing RE: Commission's Order Sect 206 Investigation in EL14-37-000 to be effective 1/19/2017.

Filed Date: 4/18/17.

Accession Number: 20170418-5330.

Comments Due: 5 p.m. ET 5/9/17.

Docket Numbers: ER17-1434-000.

Applicants: MATL LLP.

Description: Tariff Cancellation: Refiled Cancellation of ColumbiaGrid Agreement to be effective 4/20/2017.

Filed Date: 4/19/17.

Accession Number: 20170419-5087.

Comments Due: 5 p.m. ET 5/10/17.

Docket Numbers: ER17-1435-000.

Applicants: Southern California Edison Company.

Description: § 205(d) Rate Filing: Amended GIA NI-Oxnard CHP Project SA No. 872 to be effective 6/19/2017.

Filed Date: 4/19/17.

Accession Number: 20170419-5090.

Comments Due: 5 p.m. ET 5/10/17.

Docket Numbers: ER17-1436-000.

Applicants: MATL LLP.

Description: Tariff Cancellation: Cancel Concurrence Avista to be effective 4/20/2017.

Filed Date: 4/19/17.

Accession Number: 20170419-5119.

Comments Due: 5 p.m. ET 5/10/17.

Docket Numbers: ER17-1437-000.

Applicants: Puget Sound Energy, Inc.

Description: Tariff Cancellation: Notice of Cancellation of Service Agreement Nos. 687, 688, and 689 to be effective 3/1/2017.

Filed Date: 4/19/17.

Accession Number: 20170419-5142.

Comments Due: 5 p.m. ET 5/10/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 19, 2017.
Kimberly D. Bose,
Secretary.

[FR Doc. 2017-08334 Filed 4-24-17; 8:45 am]

BILLING CODE 6717-01-P